DEPARTMENT OF COMMERCE

[I.D. 062702G]

Submission for OMB Review; Comment Request

The Department of Commerce has submitted to the Office of Management and Budget (OMB) for clearance the following proposal for collection of information under the provisions of the Paperwork Reduction Act (44 U.S.C. Chapter 35).

y

Agency: National Oceanic and Atmospheric Administration (NOAA).

Title: Scientific Research, Exempted Fishing, and Exempted Activity Submissions.

Form Number(s): None.

OMB Approval Number: 0648-0309.

Type of Request: Regular submission.

Burden Hours: 695.

Number of Respondents: 135.

Average Hours Per Response: 6 hours for a Scientific Research Plan; 1 hour for an exempted fishing permit request; 2 hours for an exempted fishing permit report; and 30 minutes for an exempted educational activity request or report.

Needs and Uses: Fishery regulations do not generally affect scientific research activities conducted by a scientific research vessel. Persons planning to conduct such research are encouraged to submit a research plan to ensure that the activities are considered research and not fishing. NOAA may also grant exemptions from fishery regulations for educational or other activities (e.g., testing of fishing gear). Applications for these exemptions must be submitted, and reports on activities submitted.

Affected Public: Business or other for-profit organizations, individuals or households, not-for-profit institutions, Federal government, and State, Local or Tribal government.

Frequency: On occasion, annually.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: June 26, 2002.
Madeleine Clayton,
Departmental Paperwork Clearance Officer, Office of the Chief Information Officer.

[FR Doc. 02-16715 Filed 7-2-02; 8:45 am]

BILLING CODE 3510-22-S